DEPARTMENT OF ENERGY

Federal Energy Regulatory Commission

[Docket No. RP97-431-000]

Natural Gas Pipeline Company of America; Notice of Motion To Defer Review Meeting

June 11, 2002.

Take notice that on June 5, 2002, Natural Gas Pipeline Company of America (Natural) filed a motion to defer the meeting to be held in June 2002 to review Natural's procedures for posting and allocating capacity in its system. Natural proposes that the meeting be deferred for one year, with the deferred review meeting to be held prior to the end of June 2003.

On October 26, 2000, the Commission issued an order ¹ accepting with modifications a Stipulation and Agreement (Settlement) filed by Natural that adopted procedures to govern the posting and awarding of firm capacity on Natural's system. Article IV of that Settlement provides that a meeting is to held between 17 and 19 months after the effective date of the tariff sheets implementing the Settlement to review how the capacity award procedures are working. That provision would require that the meeting be held before the end of June 2002.

¹ 93 FERC ¶ 61,075 (2000), reh'g denied, 94 FERC ¶ 61,310 (2001).

In its motion to defer the meeting, Natural states that no significant issue regarding the operation of its capacity award procedures has arisen over the 18 months that the procedures have been in effect, and that Natural does not believe that there is any need for the review meeting at this time. Natural states that pursuant to the Commission's order approving the Settlement, Natural is required to provide the parties and Commission Staff with extensive information one week prior to the meeting. Natural states that it will provide this information to the parties by June 17, 2002. Natural further states that if, after reviewing the information, any party concludes that the meeting should be held prior to June 2003, that party should advise Natural within 30 days of receiving the information, and Natural will convene the meeting promptly. Natural states that it has contacted the active parties in this docket, and that its proposal reflects the comments of those parties.

Any person desiring to respond to Natural's motion should file an answer with the Federal Energy Regulatory Commission , 888 First Street, NE, Washington, DC 20426, in accordance with Section 385.213 of the Commission's Rules and Regulations. All such protests must be filed on or before June 20, 2002. Copies of the filing are on file with the Commission and are available for public inspection in the Public Reference Room. This filing may be viewed on the Web at http://www.ferc..gov (Call 202-208-2212 for assistance). Answers may be filed electronically via the Internet in lieu of paper. See, 18 CFR 385.2001(a)(1)(iii) and the instructions on the Commission's Web site under the “e-Filing” link.

Magalie R. Salas,
Secretary.

[FR Doc. 02-15175 Filed 6-14-02; 8:45 am]

BILLING CODE 6717-01-P